GENERAL SERVICES ADMINISTRATION

[Notice CPL-2014-03; Docket No. 2014-0002; Sequence 36]

GSA Labor-Management Relations Council Meeting

AGENCY: General Services Administration.

ACTION: Notice of meeting cancellation.

SUMMARY: The GSA Labor-Management Relations Council (GLMRC) previously announced in its November 14, 2014 Federal Register notice that it planned to hold a meeting Tuesday, December 2, 2014 and Wednesday, December 3, 2014. That meeting is being cancelled. A new notice will be posted in the Federal Register announcing the date and time when rescheduled.

FOR FURTHER INFORMATION CONTACT: Ms. Temple L. Wilson, GLMRC Designated Federal Officer (DFO) at the General Services Administration, OHRM, 1800 F Street NW., Washington, DC 20405; phone at 202-969-7110, or email at gmlrc@gsa.gov.

Dated: November 24, 2014.
Temple L. Wilson,
GSA Labor-Management Relations Council, Designated Federal Officer.

[FR Doc. 2014-28117 Filed 11-26-14; 8:45 am]

BILLING CODE 6820-34-P